DEPARTMENT OF THE INTERIOR

Bureau of Land Management

Potential for Oil Shale Development, Extension of Public Comment Period

AGENCY: Bureau of Land Management (BLM), Interior.

ACTION: Notice of extension of comment period.

SUMMARY: The BLM published a Federal Register on November 22, 2004 seeking public input on the terms to be included in leases of small tracts for oil shale research and development within the Piceance Creek Basin, northwestern Colorado; the Uinta Basin, southeastern Utah: and the Green River and Washakie Basins, western Wyoming. BLM received a request to extend the comment period and have agreed to extend the period to January 31, 2005.

DATES: Please send your comments no later than January 31, 2005.

ADDRESSES: Please hand-deliver written comments: To Nick Douglas, Suite 700, 1620 L Street, NW., Washington, DC. This is also the FedEx address. Mail written comments to BLM (Attention: Nick Douglas), Minerals, Realty and Resource Protection, Mail Stop: LS 700, 1849 C Street, NW., Washington, DC 20240. Electronic Mail: You may send comments through the Internet to BLM at: Nick_Douglas@blm.gov.

FOR FURTHER INFORMATION CONTACT: Nick Douglas, Senior Policy Advisor, Minerals, Realty and Resource Protection, Bureau of Land Management, Mail Stop: LS 700, 1849 C Street, NW., Washington, DC 20240 at (202) 452-0374.

SUPPLEMENTARY INFORMATION: BLM published a Notice of Request for Comments on Potential for Oil Shale Development on November 22, 2004; see 69 FR 67935. The purpose of this notice is to extend the comment period from December 22, 2004 to January 31, 2005. The United States holds over 50 percent of the world's oil shale resources, which contain 2.6 trillion barrels of oil. These resources include the oil shale deposits in the Green River formation in the Western United States.

Dated: December 9, 2004.
Thomas P. Lonnie,
Assistant Director, Minerals Realty, and Resource Protection.

[FR Doc. 04-27533 Filed 12-15-04; 8:45 am]

BILLING CODE 4310-AG-P